DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 30, 2002.

Interested persons are invited to submit written comments regarding the subject matter of the investigations to the Director, Division of Trade Adjustment Assistance, at the address shown below, not later than August 30, 2002.

The petitions filed in this case are available for inspection at the Office of the Director, Division of Trade Adjustment Assistance, Employment and Training Administration, U.S. Department of Labor, Room C-5311, 200 Constitution Avenue, NW., Washington, DC 20210.

Signed at Washington, DC, this 5th day of August, 2002.
Edward A. Tomchick,
Director, Division of Trade Adjustment Assistance.

Appendix
[Petitions instituted on 08/05/2002]
TA-W | Subject firm (petitioners) | Location | Date of petition | Product(s)
41,911 | Sappi Fine Paper Mill (Comp) | Muskegon, MI | 03/26/2002 | Fine Coated Paper Products.
41,912 | ADC Telecommunications (Wrks) | Shakopee, MN | 06/11/2002 | Fiber Optics and Telecommunication Equip.
41,913 | Barrick Gold Corp (Comp) | Eureka, NV | 07/18/2002 | Gold.
41,914 | Tom Harmon Logging (Comp) | LaPine, OR | 07/15/2002 | Wood Chips.
41,915 | Mountain High Timber (Comp) | LaPine, OR | 07/15/2002 | Wood Chips.
41,916 | Emess Design Group, LLC (AFGWD) | Ellwood City, PA | 07/15/2002 | Lighting Products.
41,917 | Susquehanna Pfaltzgraff (Wrks) | York, PA | 07/12/2002 | Dinnerware.
41,918 | Unilever Best Foods (Wrks) | Santa Cruz, CA | 07/24/2002 | Tea Bags.
41,919 | Saint-Gobain Abrasives (PACE) | Niagara Falls, NY | 07/18/2002 | Abrasive Products (Sheets, Rolls).
41,920 | BAE Systems (Wrks) | Wellington, KS | 07/01/2002 | Boeing Aircraft Parts.
41,921 | Delphi Packard Electric (IUE) | Gadsden, AL | 07/24/2002 | GM Wiring Harnesses & Distribution System.
41,922 | Porterco, LLC (Comp) | Magnolia, AR | 07/23/2002 | Rifle & Shotgun Slings, Garment Carriers.
41,923 | Phelps Dodge Hidalgo (Comp) | Playas, NM | 07/24/2002 | Anode Copper and Sulfuric Acid.
41,924 | McDonald Woodworks, Inc. (Wrks) | Philadelphia, MS | 07/17/2002 | Wooden Shipping Pallets, Crates, Bases.
41,925 | Flowserve (Comp) | Springville, UT | 07/18/2002 | Control Valves and Actuators.
41,926 | Atlas Alchem Plastic (IBT) | Conneaut, OH | 07/19/2002 | Polyethylene and Polypropylene Sheets.
41,927 | David Stevens (UNITE) | Blackwood, NJ | 07/25/2002 | Women's Apparel.
41,928 | Veco Alaska (Comp) | Anchorage, AK | 07/16/2002 | Crude Oil.
41,929 | Mel, Inc. (Comp) | Winchester, MA | 07/20/2002 | Convert Griege Materials.
41,930 | Lapror Plastics (Co.) | Manitowoc, WI | 07/25/2002 | Handles and Knobs.
41,931 | Vertical Aviation Tech. (Comp) | Sanford, FL | 01/25/2002 | Helicopters.
41,932 | Jet Craft Boats (Wrks) | Medford, OR | 07/29/2002 | Aluminum Boats.
41,933 | Agere Systems, Inc. (IBEW) | Orlando, FL | 02/15/2002 | Semiconductor Products.

[FR Doc. 02-21091 Filed 8-19-02; 8:45 am]

BILLING CODE 4510-30-M